DEPARTMENT OF COMMERCE

National Oceanic and Atmospheric Administration

Proposed Information Collection; Comment Request; Analysis of and Participation in Ocean Exploration Video Products

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written or on-line comments must be submitted on or before January 21, 2020.

ADDRESSES: Direct all written comments to Adrienne Thomas, PRA Officer, NOAA, 151 Patton Avenue, Room 159, Asheville, NC 28801 (or via internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Christopher “J” Dunn, LTJG/NOAA. NOAA Office of Ocean Exploration and Research, 215 South Ferry Road, Narragansett, RI 02882; 401-874-6478; christopher.dunn@noaa.gov.

SUPPLEMENTARY INFORMATION:

I. Abstract

This request is for a revision of an existing information collection.

NOAA's Office of Ocean Exploration and Research (OER) is the only federal organization dedicated to ocean exploration. By using unique capabilities in terms of personnel, technology, infrastructure, and exploration missions, OER is reducing unknowns in deep-ocean areas and providing high-value environmental intelligence needed by NOAA and the nation to address both current and emerging science and management needs. Our expertise, work products, and services generally fall into the areas of expedition planning and operations; marine archaeology; coastal and ocean mapping; science; technology; data management; and education.

Since the inception of NOAA's exploration program in 2001, OER data management has been guided by the 2000 President's Panel Report recommendations which prioritized rapid and unrestricted data sharing as one of five critical exploration program components. More recently, Public law 111-11 [Section XII Ocean Exploration] reinforced and expanded OER data management objectives, continuing to stress the importance of sharing unique exploration data and information to improve public understanding of the oceans, and for research and management purposes.

Telepresence satellite communication from the ship to shore brings the unknown ocean to the screens of both scientists and the general public in their homes, schools or offices in near real time. With technology constantly evolving it is important to address the needs of the shore-based scientists and public to maintain a high level of participation. We use voluntary surveys to identify the needs of users of data and best approaches to leverage expertise of shore-based participants for meaningful public engagement focused on ocean exploration.

This information collection consists of four forms. (1) Sailing Contact Information (new). This form is sent to the few scientists that directly sail on NOAA Ship Okeanos Explorer. The ship's operational officer needs certain information such as: If a sailing individual has securely submitted their proper medical documents to NOAA's Office of Marine and Aviation Operations, if the person is up to date with required security documents such as a passport, if the ship is traveling to a foreign port, or any dietary restrictions so that the person will be served food that is safe. (2) Okeanos Explorer Participation Assessment. This voluntary form is sent to the scientists that sailed on any Okeanos Explorer cruise funded by NOAA's Office of Ocean Exploration and Research to record any feedback they wish to provide to the office about their experience. The office uses their feedback in assessments for improving the utility and experience of these scientific guests sailing on the Okeanos Explorer. (3) EX Collaboration Tools Feedback (new). This voluntary form is sent to members of the marine scientific community at the beginning of a fiscal year to ask if members would like to participate in any of the upcoming cruises and to what degree, such as simply asking to be included in emailed updates or if they want to be on a direct line to the ship for remotely operated vehicle dive operations. (4) Citizen Scientist. This voluntary form is available to general members of the public and is used for members to improve the annotation efforts when watching short video clips of 30 seconds to 5 minutes.

II. Method of Collection

Information is only collected via online form.

III. Data

OMB Control Number: 0648-0748.

Form Number(s): N/A.

Type of Review: Revision of a currently approved collection.

Affected Public: Individuals or households; business or other for-profit organizations; not-for-profit institutions; Federal government.

Estimated Number of Respondents: 1,000.

Estimated Time per Response: 10 minutes

Estimated Total Annual Burden Hours: 166 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-25271 Filed 11-21-19; 8:45 am]

BILLING CODE 3510-KD-P